SMALL BUSINESS ADMINISTRATION

[Disaster Declaration #10298]

Alaska Disaster #AK-00003

AGENCY: Small Business Administration.

ACTION: Notice.

SUMMARY: This is a Notice of the Presidential declaration of a major disaster for Public Assistance Only for the State of Alaska (FEMA-1618-DR), dated 12/09/2005.

Incident: Severe Fall Storm, Tidal Surges, and Flooding.

Incident Period: 09/22/2005 through 09/26/2005.

Effective Date: 12/09/2005.

Physical Loan Application Deadline Date: 02/07/2006.

ADDRESSES: Submit completed loan applications to: Small Business Administration, National Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 12/09/2005, applications for Private Non-Profit organizations that provide essential services of a governmental nature may file disaster loan applications at the address listed above or other locally announced locations.

The following areas have been determined to be adversely affected by the disaster:

Northwest Arctic Borough

Bering Strait Regional Education Attendance Area

Kashunamiut Regional Education Attendance Area

Lower Kuskokwim Regional Education Attendance Area

The Interest Rates are:

| Percent
Other (Including Non-Profit Organizations) With Credit Available Elsewhere | 4.750
Businesses And Non-Profit Organizations Without Credit Available Elsewhere | 4.000

The number assigned to this disaster for physical damage is 10298.

(Catalog of Federal Domestic Assistance Number 59008)

Herbert L. Mitchell,
Associate Administrator for Disaster Assistance.

[FR Doc. E5-7999 Filed 12-28-05; 8:45 am]

BILLING CODE 8025-01-P